DEPARTMENT OF COMMERCE

Census Bureau

Agency Information Collection Activities; Submission to the Office of Management and Budget (OMB) for Review and Approval; Comment Request; Household Pulse Survey

On March 18, 2021, the Department of Commerce received clearance from the Office of Management and Budget (OMB) in accordance with the Paperwork Reduction Act of 1995 to conduct Phase 3.1 of the Household Pulse Survey (OMB No. 0607-1013, Exp. 10/31/23). Phase 3.1 of the Household Pulse Survey includes new content designed to meet current needs for information associated with household experiences during the Covid-19 pandemic.

The Department is committed to ensuring that the data collected by the Household Pulse Survey continue to meet information needs as they may evolve over the course of the pandemic. This notice serves to inform of the Department's intent to request emergency clearance from OMB to add content to the Household Pulse Survey not included in the Request for Revision for Phase 3.1 approved on March 18, 2021. The content under consideration includes demographic screener questions from the Department of Defense (DOD) to identify Service members and military spouses (Q8a), and from the National Institute for Occupational Safety and Health (NIOSH) of the Centers for Disease Control and Prevention (CDC) to classify respondents employed in “essential” worker groups (Q13c and Q13d). The Household Pulse Survey is designed to collect and disseminate data on a near real-time basis to inform on the social and economic impacts of the Covid-19 Pandemic. Data from the Household Pulse Survey will allow DOD to enhance services and target resources to help alleviate the impact of the pandemic on Service members and their families. The CDC will use the data to respond to ongoing impacts of the pandemic and target outreach efforts to promote vaccine access and uptake among essential worker groups.

It is the Department's intention to commence data collection using the revised instrument on or about April 14, 2021. The Department invites the general public and other Federal agencies to comment on proposed, and continuing information collections, which helps us assess the impact of our information collection requirements and minimize the public's reporting burden. Public comments were previously sought on the Household Pulse Survey via the Federal Register on May 19, 2020, June 3, 2020, and again on February 1, 2021. This notice allows for an additional 30 days for public comments on the proposed revisions.

Agency: U.S. Census Bureau.

Title: Household Pulse Survey.

OMB Control Number: 0607-1013.

Form Number(s): None.

Type of Request: Request for a Revision of a Currently Approved Collection.

Number of Respondents: 3,150,000.

Average Hours per Response: 20 minutes.

Burden Hours: 1,039,500.

Needs and Uses: Data produced by the Household Pulse Survey are designed to inform on a range of topics related to households' experiences during the Covid-19 pandemic. Topics to date have included employment, facility to telework, travel patterns, income loss, spending patterns, food and housing security, access to benefits, mental health and access to care, intent to receive the COVID-19 vaccine, and educational disruption (K-12 and post-secondary). The requested revision, if approved by OMB, will include additional items that will allow agencies to enhance services and target resources to help alleviate the impact of the pandemic on Service members and their families and target outreach efforts to promote vaccine access and uptake among essential worker groups. The overall burden to the public will remain unchanged.

The Household Pulse Survey was initially launched in April, 2020 as an experimental project (see https://www.census.gov/data/experimental-data-products.html) under emergency clearance from the Office of Management and Budget (OMB) initially granted April 19, 2020; regular clearance was subsequently sought and approved by OMB on October 30, 2020 (OMB No. 0607-1013; Exp. 10/31/2023).

Affected Public: Households.

Frequency: Households will be selected once to participate in a 20-minute survey.

Respondent's Obligation: Voluntary.

Legal Authority: Title 13, United States Code, Sections 8(b), 182 and 196.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1013.

Sheleen Dumas,
Department PRA Clearance Officer, Office of the Chief Information Officer, Commerce Department.

[FR Doc. 2021-07509 Filed 4-12-21; 8:45 am]

BILLING CODE 3510-07-P